OVERSEAS PRIVATE INVESTMENT CORPORATION

Sunshine Act; Public Hearing Cancellation Notice; November 30, 2011

OPIC's Sunshine Act notice of its Public Hearing in Conjunction with each Board meeting was published in the Federal Register (Volume 76, Number 219, Page 70510) on November 14, 2011. No requests were received to provide testimony or submit written statements for the record; therefore, OPIC's public hearing scheduled for 2 p.m., November 30, 2011 in conjunction with OPIC's December 8, 2011 Board of Directors meeting has been cancelled.

CONTACT PERSON FOR INFORMATION: Information on the hearing cancellation may be obtained from Connie M. Downs at (202) 336-8438, or via email at Connie.Downs@opic.gov.

Dated: November 29, 2011.
Connie M. Downs,
OPIC Corporate Secretary.

[FR Doc. 2011-31016 Filed 11-29-11; 4:15 pm]

BILLING CODE 3210-01-M